DEPARTMENT OF TRANSPORTATION

Federal Aviation Administration

Public Notice for Waiver of Aeronautical Land Use Assurance; Great Falls International Airport, Great Falls, MT

AGENCY: Federal Aviation Administration, (FAA), DOT.

ACTION: Notice.

SUMMARY: Notice is being given that the FAA is considering a proposal from the Great Falls International Airport Authority to change certain portions of the airport from aeronautical use to non-aeronautical use at the Great Falls International Airport, Great Falls, MT. The proposal consists of 5 acres of surplus property shown on the Airport's Exhibit “A” as the portion of Parcel 4 east of the airport's access road.

DATES: Comments must be received by March 26, 2018.

ADDRESSES: Comments on this application may be mailed or delivered to the FAA at the following address: Mr. William C. Garrison, Manager, Federal Aviation Administration, Northwest Mountain Region, Airports Division, Helena Airports District Office, 2725 Skyway Drive, Suite 2, Helena, Montana 59602.

FOR FURTHER INFORMATION CONTACT: Mr. Joe Nye, Civil Engineer, Federal Aviation Administration, Northwest Mountain Region, Helena Airports District Office, 2725 Skyway Drive, Suite 2, Helena, MT 59602-1213.

The request to release deed restrictions may be reviewed, by appointment, in person at the same location.

SUPPLEMENTARY INFORMATION: The FAA invites public comment on the request to release the aeronautical use restriction of 5 acres at the Great Falls International Airport under the provisions of Title 49, U.S.C. Section 47153(c) and 47107(h)2.

The Great Falls International Airport Authority, referred to herein as the Authority, has requested release from the aeronautical use restrictions assigned to 5 acres donated by the U.S. Government as surplus property in 1948.

The 5 acres are a fragment of a larger 780-acre parcel identified on the Airport's Exhibit A as Parcel 4. The 5 acres proposed for non-aeronautical use are isolated from the airfield by the airport entry road to the south and west. The Authority has identified these 5 acres as no longer needed for aeronautical purposes.

The Authority proposes to lease the property for the construction and operation of a fueling station and restaurant. The revenue from the lease of this property will be used for airport purposes. The proposed use of this property is compatible with other airport operations and is in accordance with FAA's Policy and Procedures Concerning the Use of Airport Revenue, published in Federal Register on February 16, 1999.

Any person may inspect the request in person at the FAA office listed above under FOR FURTHER INFORMATION CONTACT.

Issued in Helena, Montana, on February 14, 2018.
William C. Garrison,
Manager, Helena Airports District Office.

[FR Doc. 2018-03658 Filed 2-21-18; 8:45 am]

BILLING CODE 4910-13-P